DEPARTMENT OF HEALTH AND HUMAN SERVICES

[Document Identifier: OS-0990-0313]

Agency Information Collection Request: 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 30, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-0313-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: The Nation Blood Collection & Utilization Survey (NBCUS).

Type of Collection: Extension on a previously approved collection.

OMB No. 0990-0313- Office of the Assistant Secretary for Health—Office of HIV/AIDS and Infectious Disease Policy (OHAIDP).

Abstract: Length of request: 3 years. The Nation Blood Collection & Utilization Survey (NBCUS) is a biennial survey of the blood collection and utilization community to produce reliable and accurate estimates of national and regional collections, utilization and safety of all blood products. The 2019 NBCUS is funded by Department of Health and Human Services (DHHS/OASH) and performed by the Centers for Disease Control and Prevention (CDC). In previous years, a similar survey was performed under the auspices of the National Blood Data Resource Center (NBDRC), a private subsidiary of AABB (formerly known as the American Association of Blood Banks), with private funding. In 2005, 2007, 2009, and 2011 the survey was funded by HHS/OS/OASH and performed under contract by AABB. The CDC has since performed the 2013, 2015, and 2017 iterations of the NBCUS.

Type of respondent: U.S. Blood Collection Centers (number sampled: 70), U.S. Hospital Blood Banks (number sampled: 2850); frequency: biennial; and the affected public: private businesses.

Estimated Annualized Burden Table

Type of respondent | Number of respondents | Number responses per respondent | Average burden per response (in hours) | Total burden hours
Hospital Blood Banks | 2850 | 1 | 2 | 5700
Blood Collection Centers | 70 | 1 | 2 | 140
Total | 2920 |  |  | 5840

Terry Clark,
Office of the Secretary, Paperwork Reduction Act Reports Clearance Officer.

[FR Doc. 2018-23777 Filed 10-30-18; 8:45 am]

BILLING CODE 4150-41-P